NUCLEAR REGULATORY COMMISSION

10 CFR Part 51

[NRC-2008-0608]

RIN 3150-AI42

License Renewal of Nuclear Power Plants; Generic Environmental Impact Statement and Standard Review Plans for Environmental Reviews

AGENCY: Nuclear Regulatory Commission.

ACTION: NUREG-1437 and NUREG-1555; issuance.

SUMMARY: The U.S. Nuclear Regulatory Commission (NRC) is updating and revising NUREG-1437, “Generic Environmental Impact Statement for License Renewal of Nuclear Plants” (GEIS), which the NRC issued in May 1996. The revised GEIS provides the technical basis for amending certain NRC environmental protection regulations. The NRC has also revised NUREG-1555, Supplement 1, “Standard Review Plans for Environmental Reviews for Nuclear Power Plants, Supplement 1: Operating License Renewal” (ESRP). The ESRP serves as a guide to the NRC staff in preparing a plant-specific supplemental environmental impact statement to the GEIS. This document is announcing the issuance of NUREG-1437, Revision 1, and NUREG-1555, Revision 1.

DATES: NUREG-1437 and NUREG-1555 are effective June 20, 2013.

ADDRESSES: Please refer to Docket ID NRC-2008-0608 when contacting the NRC about the availability of information regarding this document. You may access information related to this document, which the NRC possesses and is publicly available, using any of the following methods:

• Federal Rulemaking Web site: Go to http://www.regulations.gov and search for Docket ID NRC-2008-0608. Address questions about NRC dockets to Carol Gallagher; telephone: 301-492-3668; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession No. for each document referenced in this document (if that document is available in ADAMS) is provided the first time that a document is referenced. The ADAMS Accession Nos. for the GEIS, NUREG-1437, are as follows: ML13107A023 for the package, ML13106A241 for Volume 1, ML13106A242 for Volume 2, and ML13106A244 for Volume 3. The ADAMS Accession No. for the ESRP, NUREG-1555, is ML13106A246.

• NRC's PDR: You may examine and purchase copies of public documents at the NRC's PDR, Room O1-F21, One White Flint North, 11555 Rockville Pike, Rockville, Maryland 20852.

FOR FURTHER INFORMATION CONTACT: Mr. Emmanuel Sayoc, Office of Nuclear Reactor Regulation, U.S. Nuclear Regulatory Commission, Washington, DC 20555-0001; telephone: 1-800-368-5642, email: Emmanuel.Sayoc@nrc.gov.

SUPPLEMENTARY INFORMATION:

I. Discussion

In the Rules and Regulations section of this issue of the Federal Register, the NRC published a final rule, “Revisions to Environmental Review for Renewal of Nuclear Power Plant Operating Licenses” (RIN 3150-AI42), that is amending its environmental protection regulations by updating and revising the Commission's 1996 findings on the environmental impacts of renewing the operating license of a nuclear power plant. The final rule redefines the number and scope of the environmental impact issues that must be addressed by the NRC during license renewal environmental reviews. Most of the amendments made by this final rule are based upon Revision 1 to the GEIS, which incorporates lessons learned and knowledge gained from license renewal environmental reviews conducted by the NRC since 1996.

Revision 1 to the GEIS is intended for use by license renewal applicants and the NRC staff. The NRC published the draft Revision 1 to the GEIS on July 31, 2009 (74 FR 38239), for a 75-day public comment period, ending on October 14, 2009. The NRC later extended the comment period to January 12, 2010 (74 FR 51522; October 7, 2009).

The intent of the GEIS is to determine which issues would result in the same impact at all nuclear power plants and which issues could result in different levels of impact at different plants and thus require a plant-specific analysis for impact determinations. Revision 1 to the GEIS identifies 78 environmental impact issues for consideration in license renewal environmental reviews, 59 of which have been determined to be generic to all plant sites. The GEIS also evaluates a full range of alternatives to the proposed action. For most impact areas, the proposed action (i.e., renewal of the plant's operating license) would have impacts that would be similar to or less than impacts of the alternatives, in large part because most alternatives would require new power plant construction, whereas the proposed action would not.

The NUREG-1437 consisted of two volumes when first issued by the NRC in 1996—the first volume consisting of the primary text and the second volume consisting of the GEIS appendices. Revision 1 of NUREG-1437 expands the GEIS to three volumes to meet internal NRC publication requirements for NUREG documents. Volume 1 contains the primary text of the GEIS; Volume 2 contains Appendix A, which consists of public comments and the NRC's responses thereto; and Volume 3 contains the remainder of the GEIS appendices.

The ESRP provides guidance to NRC staff in implementing the provisions in Part 51 of Title 10 of the Code of Federal Regulations (10 CFR), “Environmental Protection Regulations for Domestic Licensing and Related Regulatory Functions,” when conducting an environmental review for the renewal of a nuclear power plant's operating license.

Concurrent with the final rule, GEIS revision, and ESRP revision, the NRC is also publishing in the Rules and Regulations section of this issue of the Federal Register, Revision 1 to Regulatory Guide (RG) 4.2, Supplement 1, Preparation of Environmental Reports for Nuclear Power Plant License Renewal Applications. The Accession No. for Revision 1 to RG 4.2 is ML13067A354. The RG 4.2 provides guidance to applicants for the preparation of environmental reports that are submitted as part of an application for the renewal of a nuclear power plant operating license in accordance with 10 CFR Part 54, “Requirements for Renewal of Operating Licenses for Nuclear Power Plants.”

During the public comment period, the NRC received 32 document submissions from industry stakeholders, representatives of Federal and State agencies, other interested parties, and members of the public. Each of these document submissions contained one or more comments. The NRC also received verbal comments at the six public meetings held during the public comment period, which contained, in aggregate, several hundred comments. These comments concerned or pertained to the proposed rule (74 FR 38117 published July 31, 2009) and to the draft revisions to the GEIS, ESRP and RG 4.2. A description of all public comments submitted on the draft revised GEIS and the NRC's response to those comments, are contained in Appendix A (Volume 2) of Revision 1 to the GEIS. A summary of all six public meetings is contained in the following document, “Summary of Public Meetings to Discuss Proposed Rule Regarding Part 51 of Title 10 of the Code of Federal Regulations and the Draft Revision to the Generic Environmental Impact Statement for License Renewal of Nuclear Plants, NUREG-1437, Revision 1 (November 3, 2009),” and can be accessed in ADAMS under Accession No. ML093070141. Comments specific to the draft revised RG 4.2, which came from Federal and State agencies, and industry can be accessed in ADAMS under Accession No. ML13067A355. There were no comments specific to the ESRP.

II. Congressional Review Act

In accordance with the Congressional Review Act, the NRC has determined that this action is not a major rule and has verified this determination with the Office of Information and Regulatory Affairs of the Office of Management and Budget.

Dated at Rockville, Maryland, this 23rd day of April, 2013.
For the Nuclear Regulatory Commission.
John W. Lubinski,
Director, Division of License Renewal, Office of Nuclear Reactor Regulation.

[FR Doc. 2013-14314 Filed 6-19-13; 8:45 am]

BILLING CODE 7590-01-P